DEPARTMENT OF ENERGY

Federal Energy Regulatory Commission

[Project No. 12580-001]

Shenango Dam Hydroelectric Company, LLC; Notice of Surrender of Preliminary Permit

February 16, 2007.

Take notice that Shenango Dam Hydroelectric Company, LLC, permittee for the proposed Shenango Dam Project, has requested that its preliminary permit be terminated. The permit was issued on August 18, 2005, and would have expired on July 31, 2008.¹ The project would have been located on the Shenango River in Mercer County, Pennsylvania.

¹ 112 FERC ¶62,154.

The permittee filed the request on February 6, 2007, and the preliminary permit for Project No. 12580 shall remain in effect through the thirtieth day after issuance of this notice unless that day is a Saturday, Sunday, part-day holiday that affects the Commission, or legal holiday as described in section 18 CFR 385.2007, in which case the effective date is the first business day following that day. New applications involving this project site, to the extent provided for under 18 CFR Part 4, may be filed on the next business day.

Magalie R. Salas,
Secretary.

[FR Doc. E7-3217 Filed 2-23-07; 8:45 am]

BILLING CODE 6717-01-P